DEPARTMENT OF HOMELAND SECURITY

Coast Guard

46 CFR Part 91

Inspection and Certification

CFR Correction

In Title 46 of the Code of Federal Regulations, parts 90 to 139, revised as of October 1, 2016, on page 24, in § 91.40-3, in paragraph (a)(2), Table 91.40-3(a) is removed and Table 91.40-3(b) is reinstated to read as follows:

§ 91.40-3 Drydock examination, internal structural examination, cargo tank internal examination, and underwater survey intervals.

(a) * * *

(2) * * *

Table 91.40-3(b)—Fresh Water Service Vessels Examination Intervals in Years
| Single hull ship and barge | Double hull barge with internal framing ¹ | Double hull barge with external framing ² | Single hull barge with independent tanks ³ | Wood hull ship and barge | Unmanned deck cargo barge ⁴ | Unmanned double hull freight barge ⁵
Drydock | 5.0 | 10.0 | 10.0 | 10.0 | 2.5 | 10.0 | 10.0
Internal structural | 5.0 | 5.0 | 5.0 | 5.0 | 2.5 | 5.0 | 5.0
Cargo tank internal | ⁶ 5.0 | ⁶ 5.0 | ⁶ 10.0 | ⁶ 10.0 | ⁶ 2.5 |  | ⁶ 5.0
Note:
¹ Applicable to double hull tank barges (double sides, ends, and bottoms) when the structural framing is on the internal tank surface.
² Applicable to double hull tank barges (double sides, ends, and bottoms) when the structural framing is on the external tank surface accessible for examination from voids, double bottoms, and other similar spaces.
³ Applicable to single hull tank barges with independent cargo tanks which have a cargo containment envelope that is not a contiguous part of the hull structure and which has adequate clearance between the tanks and between the tanks and the vessel's hull to provide access for examination of all tank surfaces and the hull structure.
⁴ Applicable to unmanned/non-permissively manned deck cargo barge which carries cargo only above the weather deck and which provides complete access for examination of the inside of the hull structure.
⁵ Applicable to unmanned/non-permissively manned double hull freight barges (double sides, ends, and bottoms) the arrangement of which provides access for a complete internal structural examination as defined in § 91.40-1(b) without the necessity of entering cargo tanks or holds.
⁶ Or as specified in Part 151.

* * * * *

[FR Doc. 2017-15816 Filed 7-26-17; 8:45 am]

BILLING CODE 1301-00-D